DEPARTMENT OF THE INTERIOR

Bureau of Land Management

[CACA-048669, LLCAD07000, L51010000.ER0000.LVRWB10B4050]

Notice of Availability of the Record of Decision for the San Diego Gas & Electric Ocotillo Sol Solar Project and California Desert Conservation Area Plan Amendment, Imperial County, CA

AGENCY: Bureau of Land Management, Interior.

ACTION: Notice of availability.

SUMMARY: The Bureau of Land Management (BLM) announces the availability of the Record of Decision (ROD) and approved plan amendment to the California Desert Conservation Area (CDCA) for the San Diego Gas & Electric (SDG&E) Ocotillo Sol Solar Project in Imperial County, California. The Principal Deputy Assistant Secretary, Land and Minerals Management, approved the ROD on April 7, 2014, which constitutes the final decision of the Department of the Interior.

ADDRESSES: Copies of the Ocotillo Sol Solar Project ROD/approved CDCA plan amendment are available upon request at the BLM El Centro Field Office at 1661 S. 4th Street, El Centro, CA 92243, at the BLM California Desert District Office at 22835 Calle San Juan de los Lagos, Moreno Valley, CA 92553, or via the Internet at the following Web site: http://www.blm.gov/ca/st/en/fo/elcentro/nepa/ocotillosol.html.

FOR FURTHER INFORMATION CONTACT: Noel Ludwig, BLM Project Manager, telephone 951-697-5368; address BLM California Desert District Office, 22835 Calle San Juan de Los Lagos, Moreno Valley, CA 92553; or email nludwig@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The applicant, SDG&E, filed an application for a right-of-way (ROW) grant authorization to construct, operate, maintain, and decommission the Ocotillo Sol project, a 20-megawatt (MW) (peak load) solar photovoltaic (PV) power plant facility, on 115 acres of BLM-administered public lands in Imperial County, California, including a 15-acre temporary construction laydown area. The site for the solar facility would be adjacent to the existing Imperial Valley Substation (IVS), approximately 5 miles north of the United States-Mexico border, 9 miles southwest of El Centro, and 82 miles east of San Diego. The proposed project site is located within the BLM's CDCA, the BLM's Yuha Basin Area of Critical Environmental Concern, and the Yuha Desert Management Area for the flat-tailed horned lizard. A portion of the Juan Bautista de Anza National Historic Trail lies approximately 5 miles southwest of the project site at its closest point, and runs approximately north-south. The Jacumba Mountains Wilderness Area lies 11.7 miles to the west of the project site. The Agency Selected Alternative retains the 100-acre solar facility from the proposed project, but reduces the laydown area from 15 acres to 2 acres; this was described in the final Environmental Impact Statement (EIS) as Alternative 3: Reduced Construction Footprint, and identified as the Preferred Alternative.

All proposed project components, including the temporary 2-acre construction laydown area, would be located on BLM-administered lands subject to a ROW grant. The proposed Ocotillo Sol project components would include the PV modules and mounting structures, a maintenance building with an associated parking area, internal roads, inverters, transformers, and the combining switchgear. An existing road to the IVS would provide access to the proposed project site. New minor internal roads would be constructed between the module rows. The interconnection to the IVS would be via underground trench. Once approved and operational, the proposed Ocotillo Sol project is expected to have an average generating capacity of 15 to 18 MW, depending on the specific technology chosen, with a peak output of 20 MW.

In addition to mitigation and monitoring measures applied to all large ground disturbance projects on BLM land, the following are several of the key mitigation measures included in the ROD:

• Flat-tailed horned lizard translocation and monitoring plan;

• Burrowing owl mitigation and monitoring plan;

• Flat-tailed horned lizard exclusionary fence monitoring plan;

• Compensatory mitigation for flat-tailed horned lizard habitat losses;

• Wildlife mortality monitoring plan and mitigation measures; and

• An Archaeological Resources Monitoring and Discovery Plan, Tribal Participation Plan, and Long-Term Archaeological Management Plan.

The project site is located in the California Desert District within the planning boundary of the CDCA Plan, which is the applicable resource management plan for the project site and surrounding areas. The CDCA Plan, while recognizing the potential compatibility of solar energy generation facilities with other uses on public lands, requires that all sites associated with power generation or transmission not already identified in the Plan be considered through the BLM's land use plan amendment process. As a result, prior to approval of a ROW grant for the Ocotillo Sol Solar Project, the BLM must amend the CDCA Plan to allow the solar energy generating project on that site. The approved amendment to the CDCA Plan specifically revises the CDCA Plan to allow for the development of the Ocotillo Sol Solar Project and ancillary facilities on land managed by the BLM.

In addition to the ROW grant and plan amendment, the ROD also authorizes the temporary closures of existing routes for purposes of construction and maintenance of the underground transmission line for the Project as described in the ROD.

A Notice of Availability of the proposed plan amendment/final EIS for the Ocotillo Sol Solar Project was published on July 26, 2013 (78 FR 45268). Publication of the Notice of Availability for the plan amendment/final EIS initiated a 30-day protest period for the proposed amendment to the CDCA Plan. At the close of the 30-day period, no written protests were received. Simultaneously with the protest period, the Governor of California conducted a 30-day consistency review of the proposed plan amendment to identify any inconsistencies with State or local plans, policies or programs; no inconsistencies were identified.

Because this decision has been approved by the Principal Deputy Assistant Secretary, Land and Mineral Management, it is not subject to administrative appeal (43 CFR 4.410(a)(3)).

Authority: 40 CFR 1506.6.

Neil Kornze,
Director.

[FR Doc. 2014-09139 Filed 4-21-14; 8:45 am]

BILLING CODE 4310-40-P